DEPARTMENT OF HEALTH AND HUMAN SERVICES

Indian Health Service

Notice of Purchased/Referred Care Delivery Area Redesignation for the Mid-Atlantic Tribes in the States of Maryland, North Carolina, and Virginia

AGENCY: Indian Health Service, HHS.

ACTION: Notice.

SUMMARY: Notice is hereby given that the Indian Health Service (IHS) has decided to view the seven Mid-Atlantic Tribes in the Commonwealth of Virginia collectively and to expand the geographic boundaries of their current Purchased/Referred Care Delivery Areas (PRCDAs). The seven Mid-Atlantic Tribes include the Pamunkey Indian Tribe, Chickahominy Indian Tribe, Chickahominy Indian Tribe—Eastern Division, Upper Mattaponi Tribe, Rappahannock Tribe, Monacan Indian Nation, and Nansemond Indian Tribe.

DATES: This expansion is effective as of the publication date of this notice.

ADDRESSES: This notice can be found at https://www.federalregister.gov. Written requests for information should be delivered to: CAPT John Rael, Director, Office of Resource Access and Partnerships, Indian Health Service, 5600 Fishers Lane, Mail Stop 10E85C, Rockville, MD 20857, or by phone at (301) 443-0969 (this is not a toll-free number).

SUPPLEMENTARY INFORMATION: The final collective PRCDA for the seven Mid-Atlantic Tribes now includes the following counties and independent cities:

Counties in the Commonwealth of Virginia: Accomack, Albemarle, Alleghany, Amelia, Amherst, Appomattox, Arlington, Augusta, Bath, Bedford, Botetourt, Buckingham, Campbell, Caroline, Charlotte, Chesterfield, Clarke, Cumberland, Culpeper, Dinwiddie, Essex, Fauquier, Floyd, Fluvanna, Gloucester, Greene, Greensville, Goochland, Hanover, Henrico, Isle of Wight, James City, King and Queen, King George, King William, Lancaster, Loudoun, Louisa, Lunenburg, Mathews, Mecklenburg, Middlesex, Montgomery, Nelson, New Kent, Newport News, Norfolk, Nottoway, Orange, Page, Patrick, Pittsylvania, Powhatan, Prince Edward, Prince George, Prince William, Pulaski, Richmond, Rockbridge, Rockingham, Southampton, Spotsylvania, Stafford, Warren, Westmoreland, and York.

Independent Cities in the Commonwealth of Virginia: Alexandria, Buena Vista, Charlottesville, Chesapeake, Colonial Heights, Covington, Emporia, Fairfax, Falls Church, Franklin, Fredericksburg, Hampton, Harrisonburg, Hopewell, Lexington, Lynchburg, Manassas, Manassas Park, Newport News, Norfolk, Petersburg, Poquoson, Portsmouth, Radford, Richmond, Roanoke, Salem, Staunton, Suffolk, Virginia Beach, Waynesboro, and Williamsburg.

Counties in the State of Maryland: Allegany, Anne Arundel, Baltimore, Calvert, Carroll, Cecil, Charles, Frederick, Harford, Howard, Kent, Montgomery, Prince George's, Queen Anne's, St. Mary's, and Washington.

Independent Cities in the State of Maryland: Baltimore City.

Counties in the State of North Carolina: Alexander, Camden, Catawba, Chowan, Currituck, Davidson, Davie, Durham, Forsyth, Franklin, Gates, Granville, Guilford, Johnston, Orange, Pasquotank, Randolph, Rowan, Stanly, Stokes, and Wake.

The sole purpose of this expansion is to authorize additional Tribal members and beneficiaries to receive Purchased/Referred Care (PRC) services.

The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after consultation with the Tribal governing body or bodies on those reservations included within the PRCDA, the Secretary may, from time to time, redesignate areas within the United States for inclusion in or exclusion from a PRCDA. 42 CFR 136.22(b). The regulations require that certain criteria must be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC.

Additionally, the regulations require that any redesignation of a PRCDA must be made in accordance with the procedures of the Administrative Procedure Act (5 U.S.C. 553). 42 CFR 136.22(c). In compliance with this requirement, the IHS published a proposed notice of redesignation and requested public comments on August 1, 2023 (88 FR 50160). In response, the IHS received one comment. The comment received expressed support of the proposed expansion.

Representatives from all seven Mid-Atlantic Tribes unanimously sought to move forward collectively to request re-designation of their PRCDAs to include the entire Commonwealth of Virginia. Following consultation with those Tribes, the IHS also considered portions of Maryland and North Carolina that are close to the border of Virginia. Since all seven of the Mid-Atlantic Tribes requested the same PRCDA, the IHS considered these Tribes collectively for purposes of the PRCDA expansion. This included considering their Tribal members collectively under the criteria set forth in 42 CFR 136.22(b). In support of this expansion, the IHS adopts the following findings:

1. By expanding each Tribe's PRCDA and creating one collective PRCDA, the seven Mid-Atlantic Tribes estimate the current eligible population will collectively increase by 1006 individuals.

2. The seven Mid-Atlantic Tribes have determined that these 1006 individuals are members of the federally recognized Tribes in the Commonwealth of Virginia and that these members are socially and economically affiliated with these Mid-Atlantic Tribes.

3. Members of one or more of the Tribes reside in each county that is included in the proposed expansion, and those members live near enough to their Tribe's seat of government to maintain close social and economic ties with their Tribe. According to the leadership for each of the Tribes, those members live close enough to regularly participate—in-person—in Tribal affairs, events, activities, or other functions held by or carried out by the Tribe within its current PRCDA. Furthermore, the expanded PRCDA counties and independent cities form a contiguous area with the existing PRCDAs. Considering the seven Mid-Atlantic Tribes collectively, the IHS has determined the additional counties and independent cities proposed for inclusion herein to be geographically proximate, meaning “on or near,” to the area analogous to reservations for the seven Mid-Atlantic Tribes.

4. PRC programs operated by/for the seven Mid-Atlantic Tribes will use their existing Federal allocation for PRC funds to provide services to the expanded population. No additional financial resources will be allocated by the IHS to these programs to provide services to members residing in the expanded counties and independent cities in the Commonwealth of Virginia, State of Maryland, or State of North Carolina.

An updated listing of the PRCDAs for all federally recognized Tribes may be accessed via a link under the “Purchased/Referred Care Delivery Area” heading on the IHS PRC Resources website (https://www.ihs.gov/prc/resources).

Public Comments: The IHS received one comment. The comment received expressed support of the proposed expansion.

Roselyn Tso,
Director, Indian Health Service.

[FR Doc. 2023-28313 Filed 12-22-23; 8:45 am]

BILLING CODE 4166-14-P